FEDERAL COMMUNICATIONS COMMISSION

[IB Docket No. 16-185; DA 21-585; FRS 29338]

World Radiocommunication Conference Advisory Committee Schedules Fourth Meeting and Meetings of Its Informal Working Groups

AGENCY: Federal Communications Commission.

ACTION: Notice.

SUMMARY: In accordance with the Federal Advisory Committee Act, this notice advises interested persons that the fourth meeting of the World Radiocommunication Conference Advisory Committee (WAC) will be held on Tuesday, September 28, 2021 at 11:00 a.m. EDT. Prior to this fourth WAC meeting, the Advisory Committees' Informal Working Groups (IWG-1, IWG 2, IWG-3, and IWG-4) will have their meetings as set forth below. Due to exceptional circumstances, the fourth WAC meeting and its IWG meetings will be convened as virtual meetings with remote participation only. The meetings are open to the public. This fourth WAC meeting will consider status reports and recommendations from its Informal Working Groups (IWG-1, IWG-2, IWG-3, and IWG-4) concerning preparation for the 2023 World Radiocommunication Conference (WRC-23). A draft agenda of the fourth WAC meeting and the IWG meeting schedule with participation information are attached. The IWG meeting agendas and audience participation information, all scheduled meeting dates and updates can be found at the Commission's WRC-23 website (www.fcc.gov/wrc-23).

DATES: IWG-4: Tuesday, June 15, 2021 (11:00 a.m.-1:00 p.m. EDT); IWG-3: Tuesday, June 15, 2021 (1:00 p.m.-3:00 p.m. EDT); IWG-4: Wednesday, July 7, 2021 (11:00 a.m.-1:00 p.m. EDT); IWG-3: Wednesday, July 7, 2021 (1:00 p.m.-3:00 p.m. EDT); IWG-4: Thursday, July 29, 2021 (11:00 a.m.-1:00 p.m. EDT); IWG-3: Thursday, July 29, 2021 (1:00 p.m.-3:00 p.m. EDT); IWG-1: Tuesday, August 17, 2021 (11:00 a.m.-12:30 p.m. EDT); IWG-2: Tuesday, August 17, 2021 (3:00 p.m.-4:30 p.m. EDT); IWG-1: Tuesday, September 2, 2021 (11:00 a.m.-12:30 p.m. EDT); IWG-2: Tuesday, September 2, 2021 (1:00 p.m.-2:30 p.m. EDT); and the 4th WAC Meeting: Tuesday, September 28, 2021 (11:00 a.m. EDT).

ADDRESSES: 4th WAC Meeting: www.fcc.gov/live; IWG meetings will be held virtually.

FOR FURTHER INFORMATION CONTACT: Dante Ibarra, Designated Federal Official, World Radiocommunication Conference Advisory Committee, FCC International Bureau, Global Strategy and Negotiation Division, at Dante.Ibarra@fcc.gov, (202)-418-0610 or WRC-23@fcc.gov.

SUPPLEMENTARY INFORMATION: The FCC established the Advisory Committee to provide advice, technical support and recommendations relating to the preparation of United States proposals and positions for the 2023 World Radiocommunication Conference (WRC-23).

In accordance with the Federal Advisory Committee Act, Public Law 92-463, as amended, this notice advises interested persons of the fourth meeting of the Advisory Committee and its Informal Working Groups scheduled meetings. The Commission's WRC-23 website (www.fcc.gov/wrc-23) contains the latest information on the IWG meeting agendas and audience participation information, all scheduled meeting dates and updates, and WRC-23 Advisory Committee matters. The fourth WAC meeting will be broadcast live with open captioning over the internet from the FCC Live web page at www.fcc.gov/live. There will be audience participation available; send live questions to livequestions@fcc.gov only during this meeting.

The proposed agenda for the fourth WAC meeting and IWG meeting schedule with participation information are as follows:

Agenda

Fourth Meeting of the World Radiocommunication Conference Advisory Committee

Federal Communications Commission

September 28, 2021; 11:00 a.m. ET

1. Opening Remarks

2. Approval of Agenda

3. Approval of the Minutes of the Third Meeting

4. IWG Reports and Documents

5. Future Meetings

6. Other Business

WRC-23 Advisory Committee

Schedule of Meetings of Informal Working Groups 1, 2, 3 and 4

Informal Working Group 1: Maritime, Aeronautical and Radar Services

Contacts

Chair—Damon Ladson, dladson@hwglaw.com, telephone: (202) 730-1315

Vice Chair—Kim Kolb, kim.l.kolb@boeing.com, telephone: (703) 465-3373

FCC Representatives

Louis Bell, louis.bell@fcc.gov, telephone: (202) 418-1641

Greg Baker, gregory.baker@fcc.gov, telephone: (202) 418-0611

IWG-1—Meeting 1

Date: Tuesday, August 17, 2021

Time: 11:00 a.m.-12:30 p.m. EDT

WebEx meeting number (access code): 199 173 8628

WebEx meeting password: KWmHPa2J7i3

Join by phone: +1-415-527-5035, 1991738628## US Toll

IWG-1—Meeting 2

Date: Tuesday, September 2, 2021

Time: 11:00 a.m.-12:30 p.m. EDT

WebEx meeting number (access code): 199 678 8704

WebEx meeting password: HQjvACxP463

Join by phone: +1-415-527-5035, 1996788704## US Toll

Informal Working Group 2: Terrestrial Services

Contacts

Chair—Jayne Stancavage, jayne.stancavage@intel.com, telephone: (408) 887-3186

Vice Chair—Jennifer Oberhausen, joberhausen@ctia.org, telephone: (202) 497-9798

FCC Representatives

Dante Ibarra, dante.ibarra@fcc.gov, telephone: (202) 418-0610

Louis Bell, louis.bell@fcc.gov, telephone: (202) 418-1641

IWG-2—Meeting 1

Date: Tuesday, August 17, 2021

Time: 3:00 p.m.-4:30 p.m. EDT

WebEx meeting number (access code): 199 496 5289

WebEx meeting password: 3yyD2uUHkd3

Join by phone: +1-415-527-5035, 1994965289## US Toll

IWG-2—Meeting 2

Date: Tuesday, September 2, 2021

Time: 1:00 p.m.-2:30 p.m. EDT

WebEx meeting number (access code): 199 056 7266

WebEx meeting password: xStqCP2jp44

Join by phone: +1-415-527-5035, 1990567266## US Toll

Informal Working Group 3: Space Services

Contacts

Chair—Zachary Rosenbaum, zachary.rosenbaum@ses.com, telephone: (814) 233-7373

Vice Chair—Vacant

FCC Representatives

Clay DeCell, clay.decell@fcc.gov, telephone: (202) 418-0803

Kathyrn Medley, kathyrn.medley@fcc.gov, telephone: (202) 418-1211

Eric Grodsky, eric.grodsky@fcc.gov, telephone: (202) 418-0563

Dante Ibarra, dante.ibarra@fcc.gov, telephone: (202) 418-0610

IWG-3—Meeting 1

Date: Tuesday, June 15, 2021

Time: 1:00 p.m.-3:00 p.m. EDT

WebEx meeting number (access code): 199 934 1084

WebEx meeting password: W3sJBcHyg43

Join by phone: +1-415-527-5035, 1999341084## US Toll

IWG-3—Meeting 2

Date: Wednesday, July 7, 2021

Time: 1:00 p.m.-3:00 p.m. EDT

WebEx meeting number (access code): 199 584 9300

WebEx meeting password: gMUx6vWM9X2

Join by phone: +1-415-527-5035, 1995849300## US Toll

IWG-3—Meeting 3

Date: Thursday, July 29, 2021

Time: 1:00 p.m.-3:00 p.m. EDT

WebEx meeting number (access code): 199 890 4299

WebEx meeting password: BrR373E6wat

Join by phone: +1-415-527-5035, 1998904299## US Toll

Informal Working Group 4: Regulatory Issues

Contacts

Chair—David Goldman, david.goldman@spacex.com, telephone: (202) 649-2641

Vice Chair—Giselle Creeser, giselle.creeser@intelsat.com, telephone: (703) 559-7851

FCC Representatives

Dante Ibarra, dante.ibarra@fcc.gov, telephone: (202) 418-0610

Clay DeCell, clay.decell@fcc.gov, telephone: (202) 418-0803

IWG-4—Meeting 1

Date: Tuesday, June 15, 2021

Time: 11:00 a.m.-1:00 p.m. EDT

WebEx meeting number (access code): 199 387 8034

WebEx meeting password: 7XxpquA9Vn8

Join by phone: +1-415-527-5035, 1993878034## US Toll

IWG-4—Meeting 2

Date: Wednesday, July 7, 2021

Time: 11:00 a.m.-1:00 p.m. EDT

WebEx meeting number (access code): 199 904 4998

WebEx meeting password: 3xiXuXE9Mb5

Join by phone: +1-415-527-5035, 1999044998## US Toll

IWG-4—Meeting 3

Date: Thursday, July 29, 2021

Time: 11:00 a.m.-1:00 p.m. EDT

WebEx meeting number (access code): 199 428 4773

WebEx meeting password: 3MCnidWpa46

Join by phone: +1-415-527-5035, 1994284773## US Toll

Federal Communications Commission.
Troy Tanner,
Deputy Chief, International Bureau.

[FR Doc. 2021-12071 Filed 6-8-21; 8:45 am]

BILLING CODE 6712-01-P